DEPARTMENT OF HOMELAND SECURITY

Federal Emergency Management Agency

[Docket ID FEMA-2015-0001; Internal Agency Docket No. FEMA-B-1436

Proposed Flood Hazard Determinations for Lee County, Illinois, and Incorporated Areas and Ogle County, Illinois, and Incorporated Areas

AGENCY: Federal Emergency Management Agency, DHS.

ACTION: Proposed notice; withdrawal.

SUMMARY: The Federal Emergency Management Agency (FEMA) is withdrawing its proposed notices concerning proposed flood hazard determinations, which may include the addition or modification of any Base Flood Elevation, base flood depth, Special Flood Hazard Area boundary or zone designation, or regulatory floodway (herein after referred to as proposed flood hazard determinations) on the Flood Insurance Rate Maps and, where applicable, in the supporting Flood Insurance Study reports for Lee County, Illinois, and Incorporated Areas and Ogle County, Illinois, and Incorporated Areas.

DATES: These withdrawals are effective March 19, 2015.

ADDRESSES: You may submit comments, identified by Docket No. FEMA-B-1436 to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On November 3, 2014, FEMA published proposed notices at 79 FR 65231, proposing flood hazard determinations for Lee County, Illinois, and Incorporated Areas and Ogle County, Illinois, and Incorporated Areas. FEMA is withdrawing the proposed notices.

Authority: 42 U.S.C. 4104; 44 CFR 67.4.

Dated: February 23, 2015.
Roy E. Wright,
Deputy Associate Administrator for Mitigation, Department of Homeland Security, Federal Emergency Management Agency.

[FR Doc. 2015-06337 Filed 3-18-15; 8:45 am]

BILLING CODE 9110-12-P